DEPARTMENT OF AGRICULTURE

Submission for OMB Review; Comment Request

July 27, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by August 31, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Census of Agriculture Content Test.

OMB Control Number: 0535-0243.

Summary of Collection: The purpose of the content test is to evaluate factors impacting the National Agricultural Statistics Service (NASS) Census of Agriculture program. The factors include, but are not limited to, respondent burden, questionnaire format and design, internet instrument performance, new items, changes in question wording and location, ease of completion, and processing methodology such as edit and summary. The proposed forms and letters will be used in several tests in 2020-2021 in preparation for conducting the 2022 Census of Agriculture. NASS is responsible for conducting the Census of Agriculture under the authority of the Census of Agriculture Act of 1997, Public Law 105-113 (U.S.C. 2204g).

This is a reinstatement of the Census of Agriculture Content Test, which is conducted every five years prior to the full Census of Agriculture. The last content test was done in 2015-2016 in preparation for the 2017 Census of Agriculture.

Need and Use of the Information: The Census of Agriculture Content Test is designed to evaluate a number of factors affecting the Census of Agriculture program. It is critical to NASS' ability to design a successful census survey. The actual Census of Agriculture is required by law every five years and serves as the basis for many agriculturally-based decisions. Less frequent content test collections would hinder NASS' ability to adequately evaluate changes needed to improve census data collection and therefore recognize changing trends in agriculture.

Description of Respondents: Farmers and Ranchers.

Number of Respondents: 51,200.

Frequency of Responses: Reporting: Other (every 5 years).

Total Burden Hours: 29,788.

National Agricultural Statistics Service

Title: Local Food Marketing Practices Survey.

OMB Control Number: 0535-0259.

Summary of Collection: Data will be collected under the authority of 7 U.S.C. 2204(a). Section 10016(a)(1)(A) of the 2014 Farm Bill (Pub. L. 113-79) directs the Department of Agriculture (USDA) to collect data on “the production and marketing of locally or regionally produced agricultural food products,” while Section 10016(b)(2) requires USDA to “conduct surveys and analysis and publish reports relating to the production, handling, distribution, retail sales, and trend studies . . . of or on locally or regionally produced agricultural food products.”

This is a reinstatement of the survey that was conducted in 2016, referencing the calendar year 2015. The 2018 Farm Bill has provided funding for the continuation of the Local Food programs through 2023. The Local Foods Marketing Practices Survey will be a Census follow-on-survey.

Need and Use of the Information: The Local Food Marketing Practices Survey (LFMPS) is valuable because local farms have different business models than conventional farms, and the LFMPS is able to discern important data that are otherwise unavailable from pre-existing farmer surveys. This includes details on different types of market channels used, information about on-farm value-added processing, and outreach and advertising directly to community members and shoppers. Food and agriculture economists and other researchers in university, government, and nonprofit sectors analyze and rely on the data in this survey to understand local food marketing practices, make programmatic decisions, and support farms and related food production, aggregation, and distribution businesses.

Because the survey gathers data on production, risk management, and marketing practices, it will be used by a number of USDA agencies and federal policymakers to inform their policies and programs. Just some of the USDA agencies that will benefit from this data are Farm Service Agency (FSA), Risk Management Agency (RMA), Rural Development (RD), Agricultural Marketing Service (AMS), and Food and Nutrition Service (FNS). Farms in all 50 states will be asked to provide these data. Statistics from this survey will be used by state agencies to better understand, support, and promote their local food markets, as well as by researchers studying local foods.

Description of Respondents: Farmers and Ranchers.

Number of Respondents: 36,550.

Frequency of Responses: Reporting: Annually.

Total Burden Hours: 20,428.

Ruth Brown,
Departmental Information Collection Clearance Officer.

[FR Doc. 2020-16493 Filed 7-29-20; 8:45 am]

BILLING CODE 3410-20-P